DEPARTMENT OF VETERANS AFFAIRS

Veterans Rural Health Advisory Committee, Notice of Meeting

The Department of Veterans Affairs (VA) gives notice under the Federal Advisory Committee Act, 5 U.S.C. Ch. 10, that the Veterans Rural Health Advisory Committee will hold its virtual meeting on Monday, March 23, 2026, at 11:00 a.m. and adjourn at 3:00 p.m., Eastern Standard Time (EST). The meeting is open to the public and will be held on Microsoft Teams. Persons can join the meeting via the link or by phone: https://teams.microsoft.com/meet/2533257208715?p=7PuRM8wyjycKhrPx5X. By Phone, +1 872-701-0185 Conference ID 692 899 034#.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VA Office of Rural Health; and the Committee Chair; as well as presentations by subject-matter experts on general rural health care access.

Public comments will be received at 2:30 p.m. EST on March 23, 2026. Interested parties should contact Mr. Michael Lindner, by email at VHAORH@va.gov, or send by mail to 810 Vermont Avenue NW (12RH), ATTN: VRHAC Committee, Washington, DC 20420. Individuals wishing to speak are invited to submit a 1-2-page summary of their comment for inclusion in the official meeting record. Any member of the public seeking additional information should contact Mr. Lindner at the email address noted above or 618-751-2669.

Dated: February 25, 2026.
LaTonya L. Small,
Federal Advisory Committee Management Officer.

[FR Doc. 2026-04006 Filed 2-27-26; 8:45 am]

BILLING CODE 8320-01-P